DEPARTMENT OF JUSTICE

[OMB Number 1117-0053]

Agency Information Collection Activities; Proposed eCollection eComments Requested; Leadership Engagement Survey (LES)

AGENCY: Drug Enforcement Administration, Department of Justice.

ACTION: 30-Day notice.

SUMMARY: The Drug Enforcement Administration, Department of Justice (DOJ), will be submitting the following information collection request to the Office of Management and Budget (OMB) for review and approval in accordance with the Paperwork Reduction Act of 1995. The proposed information collection was previously published in the Federal Register on December 22, 2023, allowing a 60-day comment period.

DATES: Comments are encouraged and will be accepted for 30 days until April 25, 2024.

FOR FURTHER INFORMATION CONTACT: If you have comments especially on the estimated public burden or associated response time, suggestions, or need a copy of the proposed information collection instrument with instructions or additional information, please contact: Tammie S. Pugh, Office of Research and Analysis, Drug Enforcement Administration, 8701 Morrissette Drive, Springfield, VA 22152, Telephone 571-776-2496, Tammie.S.Pugh@dea.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1117-0053]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement of a previously approved collection.

2. The Title of the Form/Collection: Leadership Engagement Survey.

3. The agency form number, if any, and the applicable component of the Department sponsoring the collection: N/A.

4. Affected public who will be asked or required to respond, as well as the obligation to respond: Federal Government/DEA employees, contractors, and TFOs working at the DEA are encouraged to respond.

5. Obligation to Respond: The obligation to respond is voluntary.

6. An estimate of the total number of respondents and the amount of time estimated for an average respondent to respond: The maximum numbers of potential respondents is 5,000.

7. Estimated Time per Respondent: The time per response is 20 minutes to complete the Leadership Engagement Survey.

8. Frequency: The LES is administered annually.

9. An estimate of the total annual burden (in hours) associated with the collection: The total annual burden hours for this collection is approximately 1,667 hours, assuming 5000 respondents at 20 minutes for each response.

10. An estimate of the total annual cost burden associated with the collection, if applicable: There is no cost to continue the survey since it is already fully developed and runs on an internal platform accessible only to DEA employees.

If additional information is required, contact: Darwin Arceo, Department Clearance Officer, Policy and Planning Staff, Justice Management Division, United States Department of Justice, Two Constitution Square, 145 N Street NE, 4W-218 Washington, DC 20530.

Dated: March 21, 2024.
Darwin Arceo,
Department Clearance Officer for PRA, U.S. Department of Justice.

[FR Doc. 2024-06389 Filed 3-25-24; 8:45 am]

BILLING CODE 4410-09-P